FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

All World Shipping Corp. (NVO), 550 North Reo Street, Suite 300, Tampa, FL 33609, Officers:, Gerald J. DeBow, Treasurer (QI), Ross V. Stemmler, President, Application Type: QI Change.

Dawson Logistics, Inc. (OFF), 2220 South State Route 157, Suite 150, Glen Carbon, IL 62034, Officers:, Jon M. Richardson, Vice President (QI), Douglas Dawson, President, Application Type: New OFF License.

Embarque Laguna LLC (NVO & OFF), 94 Fulton Street, Suite 1-A3, Paterson, NJ 07501, Officer:, Berqui Morel, Managing Member (QI), Application Type: New NVO & OFF License.

Emjay Global LLC (NVO), 82 Alco Place, Halethorpe, MD 21227, Officer:, Olufemi P. Olaomi, Member (QI), Application Type: New NVO License.

Eshipping, LLC (NVO & OFF), 173 English Landing Drive, Suite 210, Parkville, MO 64152, Officers:, Matthew P. Weiss, Vice President (QI), Chad Earwood, President, Application Type: Add NVO Service.

Fesco Integrated Transport North American, Inc (OFF), 1000 Second Avenue, Suite 1310, Seattle, WA 98104, Officers:, Michael Evans, President (QI), Larry E. Altenbrun, Secretary, Application Type: QI Change.

Force Container Line Limited Liability Company (NVO), 20 Commerce Drive, Suite 135, Cranford, NJ 07016, Officers:, Toni M. Stanislawczyk, Member (QI), Jonathan A. Stanislawezyk, Sr., Member, Application Type: NVO License.

Graceworld Incorporation (NVO & OFF), 14023 Crenshaw Blvd., Suite 6, Hawthorne, CA 90250, Officers:, Tracy Strine, CFO (QI), Ugochukwu O. Ene, President, Application Type: New NVO & OFF License.

Icon Logistics Services LLC (OFF), 14725B Baltimore Avenue, Laurel, MD 20707, Officers:, Gbenga Yinsua, Member (QI), Musiliu Adelaja, Member, Application Type: QI Change.

Inter Shipping Line, Inc. (NVO), 18039 Crenshaw Blvd., Suite 311, Torrance, CA 90504, Officers:, Seung Joon Kim, CEO (QI), Brendan Sheen, CFO, Application Type: QI Change.

King Cargo Corporation (NVO & OFF), 8399 NW 66th Street, Suite 8 & 9, Miami, FL 33166, Officers:, Rafael C. Da Costa, Secretary (QI), Raphael D. Alves, President, Application Type: New NVO & OFF License.

SFS Cargo Express, Inc. (NVO & OFF), 8610 NW. 72nd Street, Miami, FL 33166, Officers:, Yurisnay Leyva, Secretary (QI), Juan C. Sevilla, President, Application Type: New NVO & OFF License.

Share Logistics B.V., LLC dba US Container Line (NVO), Waalhaven Zz 19 Port City II, 3089 JH Rotterdam, Netherlands, Officers:, Dirk (Dik) Biji, Executive Vice President (QI), Johannes (Jan) A. Crezee, President, Application Type: New NVO License.

Shipping Cars R US of South Florida, Inc (OFF), 16411 NW 8th Avenue, Miami, FL 33169, Officers:, Susanne A. Getten, Secretary (QI), Mattias Brannstrom, President, Application Type: New OFF License.

Sobe Enterprises, Inc. dba Sobe Export Services (NVO & OFF), 150 NW 176th Street, Unit C, Miami Gardens, FL 33169, Officers:, Claude Sterling, President (QI), David Desrouleaux, Vice President, Application Type: Add NVO Service.

Topocean Consolidation Service (Los Angeles) Inc. (NVO & OFF), 2727 Workman Mill Road, City of Industry, CA 90601, Officers: Robert Wang, President (QI), Duncan Wright, Vic President, Application Type: Add OFF Service.

Trans-Trade, Inc. dba Trans-Ocean Services, Inc. (NVO & OFF), 1040 Trade Avenue, DFW Airport, TX 75261, Officers:, Scott T. Brinks, President (QI), Brian D. Finkelstein, Secretary, Application Type: Transfer to TransTrade Operators, Inc. dba Trans-Trade, Inc. And QI Change.

West Indies Trade & Consulting, LLC (OFF), 5200 Dallas Highway, Suite 200 #301, Powder Springs, GA 30127, Officers:, Mark Weimann, President (QI), Brad P. Mangus, Owner, Application Type: Add Trade Name Trinity Transport & Logistics.

By the Commission.
Dated: August 12, 2013.
Rachel E. Dickon,
Assistant Secretary.

[FR Doc. 2013-19882 Filed 8-15-13; 8:45 am]

BILLING CODE 6730-01-P